FEDERAL COMMUNICATIONS COMMISSION

Radio Broadcasting Services; AM or FM Proposals to Change the Community of License

AGENCY: Federal Communications Commission.

ACTION: Notice.

SUMMARY: The following applicants filed AM or FM proposals to change the community of license: KZLZ, LLC, Station KZLZ, Facility ID 36022, BPH-20070118AEX, From KEARNY, AZ, To CASAS ADOBES, AZ; GEORGIA EAGLE BROADCASTING, INC., Station NEW, Facility ID 170973, BNPH-20070502ABS, From PINEVIEW, GA, To ROCHELLE, GA; ELECTRONIC APPLICATIONS RADIO SERVICE, Station WRFM, Facility ID 1724, BP-20070521ABD, From MUNCIE, IN, To KNIGHTSTOWN, IN; WSJD, INC., Station WSJD, Facility ID 55111, BPH-20070801AAB, From PRINCETON, IN, To HAUBSTADT, IN; DELTA RADIO LLC, Station WKXY, Facility ID 77755, BMPH-20071024AAC, From CLARKSDALE, MS, To MERIGOLD, MS; EDUCATIONAL COMMUNICATIONS OF COLORADO SPRINGS, INC., Station KTSG, Facility ID 88717, BPED-20071024ABK, From SIDNEY, CO, To STEAMBOAT SPRINGS, CO; EDUCATIONAL COMMUNICATIONS OF COLORADO SPRINGS, INC., Station KTAW, Facility ID 89073, BPED-20071024ABM, From WESTCLIFFE, CO, To WALSENBURG, CO; EDUCATIONAL COMMUNICATIONS OF COLORADO SPRINGS, INC., Station KTMH, Facility ID 89574, BPED-20071024ABN, From COLONA, CO, To MONTROSE, CO; EDUCATIONAL COMMUNICATIONS OF COLORADO SPRINGS, INC., Station KTDU, Facility ID 88486, BPED-20071024ABO, From TRIMBLE, CO, To DURANGO, CO; MESIC, MICHAEL J, Station WLGE, Facility ID 170981, BMPH-20071030ACI, From EPHRAIM, WI, To BAILEYS HARBOR, WI; BIRACH BROADCASTING CORPORATION, Station WGOP, Facility ID 5347, BP-20071102ARL, From POCOMOKE CITY, MD, To DAMASCUS, MD; HANSON BROADCASTING CO. OF CALIFORNIA, Station KGBA, Facility ID 8174, BP-20071106AAO, From CALEXICO, CA, To HEBER, CA; RICHARD A. & JOANN R. PETERSON, JOINT TENANTS, Station KBSZ, Facility ID 11217, BP-20071107ACH, From WICKENBURG, AZ, To APACHE JUNCTION, AZ; SHAMROCK COMMUNICATIONS, INC., Station NEW, Facility ID 166018, BMPH-20071108ACY, From ALTURAS, CA, To FERNLEY, NV; SEWARD MEDIA PARTNERS, LLC, Station KSWD-FM, Facility ID 72677, BPH-20071108AET, From SEWARD, AK, To STERLING, AK; LAKESHORE MEDIA, LLC, Station KHIL, Facility ID 72656, BP-20071113AFN, From WILLCOX, AZ, To KEARNY, AZ; MICHIGAN COMMUNITY RADIO, Station WKKM, Facility ID 121959, BPED-20071114AGT, From RUST TOWNSHIP, MI, To HARRISVILLE, MI; NORTHLAND COMMUNITY BROADCASTERS, Station WJOJ, Facility ID 88667, BPED-20071115AAA, From HARRISVILLE, MI, To RUST TOWNSHIP, MI; NEW AGE COMMUNICATIONS, INC., Station WKIX, Facility ID 57610, BPH-20071115ABS, From KINSTON, NC, To WALNUT CREEK, NC; UNIVISION RADIO LICENSE CORPORATION, Station WVIX, Facility ID 48449, BPH-20071119AIH, From JOLIET, IL, To LEMONT, IL; EDUCATIONAL MEDIA FOUNDATION, Station KLVP-FM, Facility ID 79245, BPED-20071119AKN, From CHERRYVILLE, OR, To SANDY, OR; EDUCATIONAL MEDIA FOUNDATION, Station KLVP-FM, Facility ID 79245, BPED-20071119AKN, From CHERRYVILLE, OR, To SANDY, OR; CAPSTAR TX LIMITED PARTNERSHIP, Station WDXB, Facility ID 2114, BPH-20071126AJI, From JASPER, AL, To PELHAM, AL; R & R RADIO CORPORATION, Station KDES-FM, Facility ID 67354, BPH-20071128ACX, From PALM SPRINGS, CA, To REDLANDS, CA; RADIOACTIVE, LLC, Station WPNS, Facility ID 164241, BMPH-20071129AGC, From BRODHEAD, KY, To NORTH CORBIN, KY.

DATES: Comments may be filed through February 19, 2008.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or www.BCPIWEB.com.

Federal Communications Commission.
James D. Bradshaw,
Deputy Chief, Audio Division, Media Bureau.

[FR Doc. E7-24624 Filed 12-18-07; 8:45 am]

BILLING CODE 6712-01-P